DEPARTMENT OF THE INTERIOR

National Park Service

[NPS-WASO-NRNHL-DTS#-30378; PPWOCRADI0, PCU00RP14.R50000]

National Register of Historic Places; Notification of Pending Nominations and Related Actions

AGENCY: National Park Service, Interior.

ACTION: Notice.

SUMMARY: The National Park Service is soliciting electronic comments on the significance of properties nominated before May 23, 2020, for listing or related actions in the National Register of Historic Places.

DATES: Comments should be submitted electronically by June 23, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION:

The properties listed in this notice are being considered for listing or related actions in the National Register of Historic Places. Nominations for their consideration were received by the National Park Service before May 23, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DISTRICT OF COLUMBIA

District of Columbia

Slowe-Burrill House, 1256 Kearny St. NE, Washington, SG100005324

KENTUCKY

Caldwell County

State Road-Hill Cemetery Segment, (Cherokee Trail of Tears MPS (Additional Documentation)), Adjacent to Hill Cemetery at the end of Hill Cemetery Rd., Fredonia vicinity, MP100005312

OHIO

Lake County

Downtown Painesville Historic District, Veterans Park, 22 Liberty St., 7 Richmond St., 7-71 North Park Pl., 30-100 South, Park Pl., 15-34 South Saint Clair St., 105-270 Main St., excluding 177 Main St., 8-124 North State St., 1-83 South State St., excluding 54 South State St., Painesville, SG100005323

OREGON

Clackamas County

Buena Vista Social Clubhouse, 1601 Jackson St., Oregon City, SG100005321

Deschutes County

Sphier, D.H., Building, 901 NW Bond St., Bend, SG100005322

SOUTH DAKOTA

Beadle County

Habicht & Habicht Department Store, 274 Dakota Ave. South, Huron, SG100005318

Edmunds County

Ipswich Masonic Temple, 318 2nd Ave., Ipswich, SG100005320

TEXAS

Harris County

Sears, Roebuck and Company Warehouse and Service Center, 5901 Griggs Rd., Houston, SG100005314

WEST VIRGINIA

Mercer County

Princeton Post Office, 920 Mercer St., Princeton, SG100005316

Tucker County

National Bank of Davis, 417 William Ave., Davis, SG100005315

Additional documentation has been received for the following resources:

KENTUCKY

Jefferson County

Chestnut Street Baptist Church (Additional Documentation), 912 West Chestnut St., Louisville, AD80001598

WEST VIRGINIA

Ohio County

Wheeling Historic District (Additional Documentation), Roughly bounded by 10th, Eoff, 17th, and Water Sts., Wheeling, AD79002597

Nomination submitted by Federal Preservation Officer:

The State Historic Preservation Officer reviewed the following nomination and responded to the Federal Preservation Officer within 45 days of receipt of the nomination and supports listing the property in the National Register of Historic Places.

MASSACHUSETTS

Norfolk County

John Fitzgerald Kennedy National Historic Site (Additional Documentation), 83 Beals St., Brookline, AD67000001

Authority: Section 60.13 of 36 CFR part 60.

Dated: May 26, 2020.
Sherry A. Frear,
Chief, National Register of Historic Places/National Historic Landmarks Program.

[FR Doc. 2020-12360 Filed 6-5-20; 8:45 am]

BILLING CODE 4312-52-P